DEPARTMENT OF THE TREASURY

Submission for OMB Review; Comment Request

July 19, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before August 22, 2011 to be assured of consideration.

Financial Management Service (FMS)

OMB Number: 1510-0014.

Type of Review: Extension without change of a currently approved collection.

Title: Schedule of Excess Risks.

Form: FMS-285-A.

Abstract: Listing of Excess Risks written or assumed by Treasury Certified Companies for compliance with Treasury regulations to assist in determination of solvency of Certified Companies for the benefit of writing Federal surety bonds.

Affected Public: Private Sector: Businesses or other for-profits.

Estimated Total Burden Hours: 5,600.

OMB Number: 1510-0047.

Type of Review: Extension without change of a currently approved collection.

Title: List of Data (A) and List of Data (B).

Abstract: This information is collected from insurance companies to provide Treasury a basis to determine acceptability of companies applying for a Certificate of Authority to write or reinsure Federal surety bonds or as an Admitted Reinsurer (not on excess risks to U.S.).

Affected Public: Private Sector: Businesses or other for-profits.

Estimated Total Burden Hours: 540.

OMB Number: 1510-0061.

Type of Review: Extension without change of a currently approved collection.

Title: CMIA Annual Report and Interest Calculation Cost Claims.

Abstract: Public Law 101-453 requires that States and Territories must report interest liabilities for major Federal assistance programs annually. States and Territories may report interest calculation cost claims for compensation of administrative costs.

Affected Public: State, Local, and Tribal Governments.

Estimated Total Burden Hours: 22,036.

Bureau Clearance Officer: Wesley Powe, Financial Management Service, 3700 East West Highway, Room 144, Hyattsville, MD 20782; (202) 874-8936.

OMB Reviewer: Shagufta Ahmed, Office of Management and Budget, New Executive Office Building, Room 10235, Washington, DC 20503; (202) 395-7873.

Dawn D. Wolfgang,
Treasury PRA Clearance Officer.

[FR Doc. 2011-18536 Filed 7-21-11; 8:45 am]

BILLING CODE 4810-35-P